DEPARTMENT OF JUSTICE

Office of Justice Programs

Agency Information Collection Activities: Proposed Collection; Comment Request

ACTION: 30-day notice of information collection under review: reinstatement, with change, of a previously approved collection for which approval has expired, survey of inmates in State and Federal correctional facilities, 2003.

The Department of Justice (DOJ), Office of Justice Programs, has submitted the following information collection request to the Office of Management and Budget (OMB) for review and approval in accordance with the Paperwork Reduction Act of 1995. The proposed information collection is published to obtain comments from the public and affected agencies. This proposed information collection was previously published in the Federal Register Volume 67, Number 106, page 38295 on June 3, 2002, allowing for a 60-day public comment period.

The purpose of this notice is to allow an additional 30 days for public comment until September 18, 2002. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of this information collection:

(1) Type of Information Collection: Reinstatement, with Change, of a Previously Approved Collection for which Approval has Expired.

(2) Title of the Form/Collection: Survey of Inmates in State and Federal Correctional Facilities, 2003.

(3) Agency Form Number and the applicable component of the Department sponsoring the collection: Form: NPS-25 CAPI Instrument; NPS-13 Sampling Questionnaire; and NPS-27, Inmate letter. Corrections Unit, Bureau of Justice Statistics, Office of Justice Programs, United States Department of Justice.

(4) Affected Public who will be asked to respond, as well as a brief abstract: Primary: Individuals. Others: State and Federal governments. The national survey will include an estimated 20,000 personal interviews with inmates held in State and Federal prisons. The survey will be conducted using a CAPI questionnaire, automated data control systems, and sample selection instruments. This is a national survey that will profile State and Federal prison inmates to determine trends in inmate composition, criminal history, drug/alcohol use and treatment, mental health and medical conditions, gun use and crime, and victims of crime. The Bureau of Justice Statistics uses this information in published reports and for the U.S. Congress, Executive Office of the President, practitioners, researchers, students, the media, and others interested in criminal justice statistics. No other collection series provides these data.

(5) An estimate of the total number of responses and the amount of time estimated for an average response: There will be an estimated 295 responses at 1 hour each for the NPS-13; 4,950 hours of prison staff time to escort inmates to/from interview sites; and 20,100 inmate responses at an average of 1 hour each for the NPS-25.

(6) An estimate of the total public burden (in hours) associated with the collection: The estimated total public burden is 25,345 hours.

IF ADDITIONAL INFORMATION IS REQUIRED, CONTACT: Ms. Brenda E. Dyer, Deputy Clearance Officer, United States Department of Justice, Information Management and Security Staff, Justice Management Division, Room 1600, Patrick Henry Building, 601 D Street, NW., Washington, DC 20530.

Dated: August 12, 2002.
Brenda E. Dyer,
Department Deputy Clearance Officer, Department of Justice.

[FR Doc. 02-20950 Filed 8-16-02; 8:45 am]

BILLING CODE 4410-18-M